DEPARTMENT OF HOUSING AND URBAN DEVELOPMENT

[Docket No. FR-5789-N-03]

Notice of Regulatory Waiver Requests Granted for the Third Quarter of Calendar Year 2014

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2014, and ending on September 30, 2014.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2014.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2014 through September 30, 2014. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2014) before the next report is published (the fourth quarter of calendar year 2014), HUD will include any additional waivers granted for the third quarter in the next report.

Accordingly, information about approved waiver requests pertaining to HUD regulations is provided in the Appendix that follows this notice.

Dated: December 17, 2014.
Helen R. Kanovsky,
General Counsel.

Appendix—Listing of Waivers of Regulatory Requirements Granted by Offices of the Department of Housing and Urban Development July 1, 2014 Through September 30, 2014

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 51.104(b)(2).

Project/Activity: The Federal Housing Commissioner in the Office of Housing requested a waiver 24 CFR 51.104(b)(2) in order to facilitate the construction of the Y-Site apartments, a 199 unit facility in Gaithersburg, MD adjacent to the Gaithersburg MARC (Maryland Area Commuter Rail) station using HUD Section 221(d)(4) program.

Nature of Requirement: The regulation at 24 CFR 51.104(b)(2) requires an environmental impact statement for projects in unacceptable noise zones. The Assistant Secretary may waive the EIS requirement in cases where noise is the only environmental issue and no outdoor noise sensitive activity will take place on the site. In such cases, an environmental review shall be made pursuant to the requirements of 24 CFR parts 50.

Granted By: Clifford Taffet, Acting Assistant Secretary for Community Planning and Development.

Date Granted: July 15, 2014.

Reason Waived: The project will further the HUD mission and will advance HUD program goals to develop viable, sustainable communities and affordable housing. The construction of the units will adequately protect the interiors, and no outdoor, noise-sensitive uses will occur in the exposed space. Based on the environmental assessments, no adverse environmental impact will result from this development in an unacceptable noise zone.

Contact: James Potter, Office of Environment and Energy, Office of Community Planning and Development, Department of Housing and Urban Development, 451 Seventh Street SW., Room 7250, Washington, DC 20410, telephone (202) 402-4610.

• Regulation: 24 CFR 58.22(a).

Project/Activity: The Acting Administrator for the Eastern/Woodlands Office of Native American Programs requested a waiver of 24 CFR 58.22(a) in order to facilitate construction of two basketball courts, a picnic pavilion and a fitness center by the ISWA Development Corporation—Catawba Nation in Rock Hill, SC.

Nature of Requirement: A regulatory waiver is required because the ISWA Development Corporation committed non-HUD funds for the construction contract prior to HUD approval of a Request for Release of Funds in violation of the regulation at 58.22(a).

Granted By: Clifford Taffet, Acting Assistant Secretary for Community Planning and Development.

Date Granted: September 4, 2014.

Reason Waived: The above project will further the HUD mission and will advance HUD program goals to develop viable, quality communities. Although the errors were made in the environmental review process, the fitness center, basketball courts and the pavilion will help the community by providing a safe and a suitable area for sports, entertainment and physical fitness. The property was rehabilitated in good faith and ISWA did not willfully violate the applicable regulations; no HUD funds were committed to the construction contract; and based on the environmental assessment, and a field inspection concluded that granting a waiver for this project will not result in any unmitigated, adverse environmental impact.

Contact: Nelson A. Rivera, Office of Environment and Energy, Office of Community Planning and Development, Department of Housing and Urban Development, 451 Seventh Street SW., Room 7250, Washington, DC 20410, telephone (202) 402-4455.

• Regulation: 24 CFR 570.208(a)(l)(vi).

Project/Activity: Fresno County, CA requested a waiver of 24 CFR 570.208(a)(l)(vi) allow the use of prior Low and Moderate Income Summary Data for two infrastructure activities in order to demonstrate compliance with the low- and moderate-income benefit national objective requirements.

Nature of Requirement: 24 CFR 570.208(a)(l)(vi) requires that the most recently available decennial census information must be used to the fullest extent feasible, together with the section 8 income limits that would have applied at the time the income information was collected by the Census Bureau, to determine whether there is a sufficiently large percentage of low- and moderate-income persons residing in the area served by a CDBG funded activity. The HUD-produced Low and Moderate Income Summary Data provide this data to grantees. On June 10, 2014, HUD issued new Low and Moderate Income Summary Data, with an effective date of July 1, 2014 for use by grantees.

Granted By: Clifford Taffet, Acting Assistant Secretary for Community Planning and Development.

Date Granted: September 26, 2014.

Reason Waived: Two infrastructure activities, which had been in the planning stage for many months, were included in the county's FY 2014 Annual Action Plan. However, funds were not obligated by the county to these activities prior to July 1, 2014. The county documented that the available Low and Moderate Income Summary data covered an area larger than the actual service areas for the two activities, and was not representative of the income characteristics of the activity service area residents. The county would incur further delays and additional costs to conduct special surveys to qualify the service areas of the two activities. The waiver allowed the county to continue to use the prior Low and Moderate Income Summary Data to demonstrate compliance with the low- and moderate-income benefit national objective requirements.

Contact: Steve Johnson, Director of Entitlement Communities Division, Office of Community Planning and Development, Department of Housing and Urban Development, 451 Seventh Street SW., Room 7282, Washington, DC 20410, telephone (202) 402-4548.

• Regulation: 24 CFR 91.105(c)(2).

Project/Activity: Snohomish County, WA requested a waiver of 24 CFR 91.105(c)(2) to permit a three day public comment period for citizen review of use of Community Development Block Grant (CDBG) funds to assist in recovering from a presidentially declared disaster in 2014 resulting from mudslides.

Nature of Requirement: The provision of 24 CFR 91.105(c)(2) requires that grantees provide a period of not less than 30 days during which affected citizens may review and comment on the substantial amendment prior to its implementation.

Granted By: Clifford Taffet, Acting Assistant Secretary for Community Planning and Development.

Date Granted: September 17, 2014.

Reason Waived: The Department provided $1,500,000 in Community Development Block Grant (CDBG) funds to assist Snohomish County in recovering from a presidentially declared disaster in 2014 resulting from mudslides. The period of availability for obligation for some of the funds being provided to the county expired on September 30, 2014. The county could not complete its citizen participation and amendment process before September 30 within the 30-day period specified in the Consolidated Plan regulations. This waiver allowed a minimum three (3) day public comment period for Snohomish County's substantial amendment to its Consolidated Plan.

Contact: Steve Johnson, Director of Entitlement Communities Division, Office of Community Planning and Development, Department of Housing and Urban Development, 451 Seventh Street SW., Room 7282, Washington, DC 20410, telephone (202) 402-4548.

II. Regulatory Waivers Granted by the Office of Housing—Federal Housing Administration (FHA)

For further information about the following regulatory waivers, please see the name of the contact person that immediately follows the description of the waiver granted.

•Regulation: 24 CFR 200.85(b).

Project/Activity: Riverside Park Apartments, Phase II, West Memphis, Arkansas Project Number: 082-11124.

Nature of Requirement: HUD's regulation at 24 CFR 200.85(b) requires the mortgage contain “[a] covenant against repayment of a Commissioner approved inferior lien from mortgage proceeds other than surplus cash or residual receipts, except in the case of an inferior lien created pursuant to Section 223(d) of the Act [National Housing Act], or a supplemental loan insured pursuant to Section 241 of the Act.”

Granted By: Carol J. Galante, Assistant Secretary for Housing—Federal Housing Commissioner.

Date Granted: July 10, 2014.

Reason Waived: The project consists of 8 two-story buildings with 64 units, built on a 7.29 acre site with 97 percent occupancy as of the Lender's underwriting, dated 12/3/13. The Borrower and the Management agent have extensive experience with over 100 properties, including HUD properties, through the Low-Income Housing Tax Credit (LIHTC) program in development, constructing and management of affordable residential housing. Substantial rehabilitation was recently completed on Phase I of the property where major components such as the HVAC, roof, cabinets, plumbing, appliances and windows were replaced. The Partnership obtained a $450,000 loan from the Arkansas Development Finance Authority (ADFA) through the HOME Investment Partnerships Program and executed a Promissory Note to repay this loan. The Borrower executed a deed restriction under the HOME Investment Partnerships Program Agreement, which qualifies the property as affordable housing for a minimum of 35 years. The property will accept residents with Section 8 vouchers. Riverside Park Apartment's existing loan and operations are performing well and has sufficient cash flow after debt service payments for both the FHA insured loan and the HOME loan.

Contact: Theodore K. Toon, Director, FHA Multifamily Production, Office of Multifamily Housing Programs, Office of Production, Office of Housing, Department of Housing and Urban Development, 451 Seventh Street SW., Room 6230, Washington, DC 20410, telephone (202) 402-8386.

• Regulation: 24CFR 200.85(b).

Project/Activity: Riverside Park Apartments, Phase I, West Memphis, Arkansas Project Number: 082-11123.

Nature of Requirement: HUD's regulation at 24 CFR 200.85(b) requires the mortgage contain “[a] covenant against repayment of a Commissioner approved inferior lien from mortgage proceeds other than surplus cash or residual receipts, except in the case of an inferior lien created pursuant to Section 223(d) of the Act [National Housing Act], or a supplemental loan insured pursuant to Section 241 of the Act.”

Granted By: Carol J. Galante, Assistant Secretary for Housing—Federal Housing Commissioner.

Date Granted: July 11, 2014.

Reason Waived: The Partnership obtained a $450,000 loan from the Arkansas Development Finance Authority (ADFA) through the HOME Investment Partnerships Program and executed a Promissory Note to repay this loan. The Borrower executed a deed restriction under the HOME Investment Partnerships Program Agreement, which qualifies the property as affordable housing for a minimum of 35 years. The project consists of 8 two-story buildings with 64 units, built on a 7.29 acre site with 97 percent occupancy as of the Lender's underwriting, dated 12/3/13. The Borrower and the Management agent have extensive experience with over 100 properties, including HUD properties, through the Low-Income Housing Tax Credit (LIHTC) program in development, constructing and management of affordable residential housing. Substantial rehabilitation was recently completed on Phase I of the property where major components such as the HVAC, roof, cabinets, plumbing, appliances and windows were replaced. The property will accept residents with Section 8 vouchers. Riverside Park Apartment's existing loan and operations are performing well and has sufficient cash flow after debt service payments for both the FHA insured loan and the HOME loan.

Contact: Theodore K. Toon, Director, FHA Multifamily Production, Office of Multifamily Housing Programs, Office of Production, Office of Housing, Department of Housing and Urban Development, 451 Seventh Street SW., Room 6230, Washington, DC 20410, telephone (202) 402-8386.

• Regulation: 24 CFR 200.85(b).

Project/Activity: Brent Place/Essex House Apartments; FHA Project Number: 051-35642; City, State: Alexandria, Virginia. Owner requested a regulatory waiver as part of their participation in the Energy Efficiency Pilot Initiative Utilizing Energy Performance Contracting Loan Subordination.

Nature of Requirement: HUD's regulation at 24 CFR 200.85(b) requires the mortgage contain “[a] covenant against repayment of a Commissioner approved inferior lien from mortgage proceeds other than surplus cash or residual receipts, except in the case of an inferior lien created pursuant to Section 223(d) of the Act [National Housing Act], or a supplemental loan insured pursuant to Section 241 of the Act.”

Granted By: Carol J. Galante, Assistant Secretary for Housing—Federal Housing Commissioner.

Date Granted: August 29, 2014.

Reason Waived: The granted waiver of 24 CFR 200.85(b) facilitates payment of the inferior lien from a source other than surplus cash or Residual Receipts. The inferior lien will be paid over a 10 year period from the increased revenues that result from the energy savings. The requested waiver is required to facilitate the implementation of the Energy Efficiency Pilot Initiative Utilizing Energy Performance Contracting at the subject property. The Pilot is intended to improve energy and water efficiency in multifamily housing and address the difficulty that existing multifamily properties have in accessing financing for energy and water saving improvements. By granting the regulatory waiver, the property will achieve energy savings through several water and energy efficiency improvements (e.g. replacement of existing fixtures with low flow faucet aerators, occupancy sensors to control lighting in common areas, high/low limiting thermostats, etc.).

Contact: Lauryn Alleva, Program Analyst, Office of Multifamily Housing Programs, Office of Housing, Department of Housing and Urban Development, 451 Seventh Street SW., Room 6112, Washington, DC 20410, telephone (202) 402-2609.

• Regulation: 24 CFR 219.220(b).

Project/Activity: Sycamore Groves Apartments, FHA Project Number 084-44154, Kansas City, Missouri. The owners have requested deferral of repayment of the Flexible Subsidy Operating Assistance Loan on this project due to their inability to repay the loan in full upon prepayment of the 236 Loan.

Nature of Requirement: The regulation at 24 CFR 219.220(b) [1995], which governs the repayment of operating assistance provided under the Flexible Subsidy Program for Troubled Projects, states “[a]ssistance that has been paid to a project owner under this subpart must be repaid at the earlier of the expiration of the term of the mortgage, termination of mortgage insurance, prepayment of the mortgage, or a sale of the project.”

Granted by: Carol J. Galante, Assistant Secretary for Housing—Federal Housing Commissioner.

Date Granted: September 4, 2014.

Reason Waived: The owner requested and was granted waiver of the requirement to defer repayment of the Flexible Subsidy Operating Assistance Loan to allow the much needed preservation and moderate rehabilitation of the project. The project will be preserved as an affordable housing resource of Kansas City, Missouri.

Contact: Minnie Monroe-Baldwin, Branch Chief, Affordable Housing Transaction, Office of Housing, Department of Housing and Urban Development, 451 Seventh Street SW., Room 6222, Washington, DC 20410, telephone (202) 402-2636.

• Regulation: 24 CFR 219.220(b).

Project/Activity: Terrace Hills Apartments FHA Number 102-44001T is a 54-unit apartment style project for low-income families. The mortgage was insured pursuant to Section 236(j)(1) of the National Housing Act and was endorsed on May 4, 1970, in the amount of $782,100 at eight and one half percent interest. The project's Section 236 mortgage matured on January 1, 2012.

Nature of Requirement: The regulation at 24 CFR 219.220(b)(1995), which governs the repayment of operating assistance provided under the Flexible Subsidy Program for Troubled Projects, states “Assistance that has been paid to a project owner under this subpart must be repaid at the earlier of the expiration of the term of the mortgage, termination of mortgage insurance, prepayment of the mortgage, or a sale of the project.”

Granted By: Carol J. Galante, Assistant Secretary for Housing—Federal Housing Commissioner.

Date Granted: August 14, 2014.

Reason Waived: Therefore, 24 CFR 219.220(b)(1995) is hereby waived to permit the deferment of repayment of the outstanding Flexible Subsidy Loan, plus accrued interest, and to permit the Owner to repay the Loan through a repayment plan.

Contact: James Wyatt, Program Manager, Office of Asset Management, Office of Housing, Department of Housing and Urban Development, 451 Seventh Street SW., Room 6168, Washington, DC 20410, telephone (202) 402-2519.

• Regulation: 24 CFR 219.220(b).

Project/Activity: Glynn Courtyard Apartments FHA Number 022-44007T is a 69-unit multifamily project originally developed in 1971 with a mortgage insured pursuant to Section 236(j)(1) of the National Housing Act, which matured in January 2012 and is paid in full.

Nature of Requirement: The regulation at 24 CFR 219.220(b)(1995), which governs the repayment of operating assistance provided under the Flexible Subsidy Program for Troubled Projects, states “Assistance that has been paid to a project Owner under this subpart must be repaid at the earlier of expiration of the term of the mortgage, termination of mortgage insurance, prepayment of the mortgage, or a sale of the project.”

Granted By: Carol J. Galante, Assistant Secretary for Housing—Federal Housing Commissioner.

Date Granted: September 8, 2014.

Reason Waived: Therefore, 24 CFR 219.220(b)(1995) is hereby waived to permit the deferment of repayment of the outstanding Flexible Subsidy Loan, plus accrued interest, and to permit the Owner to repay the Flexible Subsidy Loan through a repayment plan.

Contact: James Wyatt, Program Manager, Office of Asset Management, Office of Housing, Department of Housing and Urban Development, 451 Seventh Street SW., Room 6168, Washington, DC 20410, telephone (202) 402-2519.

• Regulation: 24 CFR 241.16(a)(2).

Project/Activity: Kaleida Health (KH) is a not-for-profit health system that owns and operates four hospitals with an aggregate of 998 licensed beds, a vascular institute, skilled nursing facilities, visiting nurse associations, and 80 outpatient clinics and diagnostic and treatment centers. KH is located in Buffalo, New York.

Nature of Requirement: The regulation mandates that the three-year aggregate operating margin of the Hospital be greater than 0.00% when calculated from the three most recent annual financial statements.

Granted By: Carol J. Galante, Assistant Secretary for Housing—Federal Housing Commissioner.

Date Granted: September 26, 2014.

Reason Waived: The Hospital does not meet the three-year operating margin rule. However, there are mitigating circumstances to reduce risk, including but not limited to a high debt service coverage, low loan-to-value, and considerable community financial support. Further, while the three-year aggregate operating margin is slightly less than 0.00% (−0.41%), recent financial results indicate that a positive margin will be achieved in the current fiscal year.

Contact: Shelley M. McCracken-Rania, Senior Financial Analyst, Office of Healthcare Programs, Office of Housing, Department of Housing and Urban Development, 451 Seventh Street SW., Room 2247, Washington, DC 20401, telephone (202) 402-5366.

• Regulation: 24 CFR 891.100(d).

Project/Activity: Meadow Lane Apartments, New Rochelle, NY

Project Number: 012-EE382/NY36-S101-006.

Nature of Requirement: Section 891.100(d) prohibits amendment of the amount of the approved capital advance funds prior to closing.

Granted By: Carol J. Galante, Assistant Secretary for Housing—Federal Housing Commissioner.

Date Granted: July 9, 2014.

Reason Waived: The project is economically designed and comparable in cost to similar projects in the area, and the sponsor/owner has exhausted all efforts to obtain additional funding from other sources.

Contact: Catherine M. Brennan, Director, Office of Housing Assistance and Grant Administration, Office of Housing, Department of Housing and Urban Development, 451 Seventh Street SW., Room 6180, Washington, DC 20410, telephone (202) 708-3000.

• Regulation: 24 CFR 891.100(d).

Project/Activity: Fulton Gardens Apartments, Houston, TX

Project Number: 114-EE150/TX24-S101-005.

Nature of Requirement: Section 891.100(d) prohibits amendment of the amount of the approved capital advance funds prior to closing.

Granted By: Carol J. Galante, Assistant Secretary for Housing—Federal Housing Commissioner.

Date Granted: September 22, 2014.

Reason Waived: The project is economically designed and comparable in cost to similar projects in the area, and the sponsor/owner has exhausted all efforts to obtain additional funding from other sources.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: Housing Opportunities II, Shirley, NY Project Number: 012-HD137/NY36-Q071-002.

Nature of Requirement: Section 891.165 provides that the duration of the fund reservation of the capital advance is 24 months from the date of issuance with limited exceptions up to 36 months, as approved by HUD on a case-by-case basis.

Granted By: Carol J. Galante, Assistant Secretary for Housing—Federal Housing Commissioner.

Date Granted: July 25, 2014.

Reason Waived: The sponsor/owner needed additional time to prepare for initial closing.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: Anderson Gardens Apartments, Woodstock, VA Project Number: 051-EE134/VA36-S091-001.

Nature of Requirement: Section 891.165 provides that the duration of the fund reservation of the capital advance is 24 months from the date of issuance with limited exceptions up to 36 months, as approved by HUD on a case-by-case basis.

Granted By: Carol J. Galante, Assistant Secretary for Housing—Federal Housing Commissioner.

Date Granted: August 5, 2014.

Reason Waived: Additional time was needed to approve a new co-sponsor and site. The sponsor/owner also needed additional time for the new site to be rezoned and for the project to achieve initial closing.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: Pollywog Creek Senior Housing, Labelle, FL Project Number: 066-EE120/FL29-S101-006.

Nature of Requirement: Section 891.165 provides that the duration of the fund reservation of the capital advance is 24 months from the date of issuance with limited exceptions up to 36 months, as approved by HUD on a case-by-case basis.

Granted By: Carol J. Galante, Assistant Secretary for Housing—Federal Housing Commissioner.

Date Granted: August 8, 2014.

Reason Waived: The sponsor/owner needed additional time to prepare for initial closing.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: ArtsBridge Senior Housing, Bronx, NY Project Number: 012-EE372/NY36-S091-002.

Nature of Requirement: Section 891.165 provides that the duration of the fund reservation of the capital advance is 24 months from the date of issuance with limited exceptions up to 36 months, as approved by HUD on a case-by-case basis.

Granted By: Carol J. Galante, Assistant Secretary for Housing—Federal Housing Commissioner.

Date Granted: August 14, 2014.

Reason Waived: The sponsor/owner needed additional time to prepare for initial closing.

Contact: Catherine M. Brennan, Director, Office of Housing Assistance and Grant Administration, Office of Housing, Department of Housing and Urban Development, 451 Seventh Street SW., Room 6180, Washington, DC 20410, telephone (202) 708-3000.

• Regulation: 24 CFR 891.165.

Project/Activity: Bill Sorro Community, San Francisco, CA Project Number: 121-HD097/CA39-Q101-003.

Nature of Requirement: Section 891.165 provides that the duration of the fund reservation of the capital advance is 24 months from the date of issuance with limited exceptions up to 36 months, as approved by HUD on a case-by-case basis.

Granted By: Carol J. Galante, Assistant Secretary for Housing—Federal Housing Commissioner.

Date Granted: September 19, 2014.

Reason Waived: The sponsor/owner needed additional time to prepare for initial closing.

Contact: Catherine M. Brennan, Director, Office of Housing Assistance and Grant Administration, Office of Housing, Department of Housing and Urban Development, 451 Seventh Street SW., Room 6180, Washington, DC 20410, telephone (202) 708-3000.

• Regulation: 24 CFR 891.205,501(C)(3).

Project/Activity: Nativity B.V.M. Place, Philadelphia, PA Project Number: 034-EE167/PA26-S091-005.

Nature of Requirement: Section 891.205, requires at the time of the fund reservation for the Owner to be a private nonprofit organization with a tax exempt status under Section 501(C)(3) or 501(C)(4) of the Internal Revenue Code.

Granted By: Carol J. Galante, Assistant Secretary for Housing—Federal Housing Commissioner.

Date Granted: September 29, 2014.

Reason Waived: The project experienced a delay of three years due to litigation and the required tax exemption ruling from Internal Revenue Service (IRS) was expected to be issued but not in time for the scheduled initial closing of the project. The waiver would permit the Owner of the subject project to proceed to initial closing without the required tax exemption ruling from the IRS.

Contact: Catherine M. Brennan, Director, Office of Housing Assistance and Grant Administration, Office of Housing, Department of Housing and Urban Development, 451 Seventh Street SW., Room 6180, Washington, DC 20410, telephone (202) 708-3000.

• Regulation: Requirements of Mortgagee Letter 2011-22, Condominium Project Approval and Processing Guide, Restrictions on Leasing

Project/Activity: Franklin Towers, Los Angeles, CA. Request to issue FHA case number for Unit #710 located at 7250 Franklin Avenue, Los Angeles, California without approving the subject condominium project as required per the regulatory requirement.

Nature of Requirement: Section 1.8.9 of the Condominium Project Approval and Processing Guide, Restrictions on Leasing, defines the requirements for use of a condominium unit for transient purposes as a rental for less than 30 days or where there are services provided by the lessor normally associated with a hotel. The Covenants, Conditions and Restrictions (CC&Rs) of the project contain impermissible transient usage language. The Association Board will not consider amending the CC&Rs removing the impermissible language or provide an executed statement that affirms there are no units within the project currently rented for less than 30 days and/or pursuant to the lessor providing any services normally associated with a hotel.

Granted By: Carol J. Galante, Assistant Secretary for Housing—Federal Housing Commissioner.

Date Granted: September 4, 2014.

Reason Waived: The Unit purchaser should not lose the opportunity to purchase an affordable housing unit based on the Association Board's reluctant to provide the required statement for project approval. The granting of this waiver is consistent with the Department's objectives to expand the availability of FHA mortgage insurance, while providing appropriate safeguards.

Contact: Joanne B. Kuczma, Housing Program Officer, Office of Single Family Program Development, Office of Housing, Department of Housing and Urban Development, 451 Seventh Street SW., Room 9278, Washington, DC 20410, telephone (202) 402-2137.

III. Regulatory Waivers Granted by the Office of Public and Indian Housing

For further information about the following regulatory waivers, please see the name of the contact person that immediately follows the description of the waiver granted.

• Regulation: 24 CFR 5.801(d)(1).

Project/Activity: Compton Housing Authority (CA071) Compton, CA.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: September 8, 2014.

Reason Waived: The Housing Authority (HA) contended that the audit of the City of Compton was delayed as a result of allegations of fraud and misuse of the City funds resulting in the necessary forensic audit. As a result, the audited financial submission was delayed. In accordance with 24 CFR 5.110, there was good cause to waive the reporting compliance deadlines under 24 CFR 5.801. The additional time permitted the HA to finalize the audit process and complete the submission to the REAC. The HA's request for an extension until August 30, 2014 was approved.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: North Bend Housing Authority (OR009), North Bend, OR

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: August 4, 2014.

Reason Waived: The North Bend Housing Authority (HA) requested an extension of the due date because the HA's Auditor was not able to complete the audit due to health complications. The HA requested a 60-day extension in order to submit its FYE December 31, 2013 audited submission. The Department reviewed the HA's request and concluded that the waiver request approved. In accordance with 24 CFR 5.110, there was good cause to approve the waiver of the audited financial submission due date of September 30, 2014. The inability to submit financial information to the Department by September 30, 2014 was beyond the control of the HA.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: The Housing Authority of the City of Alamogordo (NM004), Alamogordo NM

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: August 4, 2014.

Reason Waived: The Housing Authority of the City of Alamogordo contends that the audit was completed in March 2014. The auditors disagreed on the initial FASS system submission and this caused an additional delay in the REAC submission. As a result, the audited data was not submitted to the REAC on or before the due date of March 31, 2014. In accordance with 24 CFR 5.110, there was good cause to approve the HA's request and hereby waive the reporting compliance deadlines under 24 CFR 5.801. The audited data was completely submitted to the REAC on April 2, 2014 which was two (2) days after the due date. This audited data was used to calculate the new FASS indicator score for the Housing Authority of the City of Alamogordo.

Contact: Judy Wojciechowski, Program Manager, NASS, Real Estate Assessment Center, Office of Public and Indian Housing, Department of Housing and Urban Development, 550 12th Street SW., Suite 100, Washington, DC 20410, telephone (202) 475-7907.

• Regulation: 24 CFR 5.801(d)(1).

Project/Activity: The Municipality of San Juan Puerto Rico (RQ006), San Juan PR

Nature of Requirement: The regulation establishes certain reporting compliance dates. The audited financial statements are required to be submitted to the Real Estate Assessment Center (REAC) no later than nine months after the housing authority's (HA) fiscal year end (FYE), in accordance with the Single Audit Act and OMB Circular A-133.

Granted By: Jemine A. Bryon, Acting Assistant Secretary for Public and Indian Housing.

Date Granted: September 8, 2014.

Reason Waived: The Housing Authority (HA) new external auditor had concerns about the accuracy and validity of the prior year balances. Furthermore, new Government officials were appointed on January 14, 2013, which included a new management structure for the HA's finance department. This caused an issue with obtaining information to validate beginning balances of the previous issued audited financial data. The Department reviewed the Municipality of San Juan's request and concluded that the waiver request should be approved. In accordance with 24 CFR 5.110, there was good cause to approve the waiver of the audited financial submission due date of March 31, 2014. The Municipality of San Juan's inability to submit their financial information by March 31, 2014 was beyond the control of the HA.

Contact: Judy Wojciechowski, Program Manager, NASS, Real Estate Assessment Center, Office of Public and Indian Housing, Department of Housing and Urban Development, 550 12th Street SW., Suite 100, Washington, DC 20410, telephone (202) 475-7907.

• Regulation: 24 CFR 905.505(i)1.

Project/Activity: Mobile Alabama Housing Board.

Nature of Requirement: Establishes that a Public Housing Authority cannot pledge more than 33% of their annual Capital Fund grants for debt service.

Granted By: Jemine Byron, Acting Assistant Secretary for Public and Indian Housing.

Date Granted: September 17, 2014.

Reason Waived: By allowing the Housing Authority to refinance their existing debt at a more than 33%, savings of about $1.8 million over the remaining life of the loan will be realized.

Contact: Ivan Pour, Director of the Office of Capital Improvements, Office of Public and Indian Housing, Department of Housing and Urban Development, 451 7th Street SW., Room 4130, Washington, DC 20410, telephone (202) 402-2488.

• Regulation: 24 CFR 982.401(c)(1) and (2).

Project/Activity: Idaho Housing and Finance Agency, (IHFA), Boise, ID.

Nature of Requirement: This regulation states that a unit approved under the Housing Choice Voucher program must have suitable space and equipment to store, prepare, and serve foods in a sanitary manner.

Granted By: Jemine A. Bryon, Acting Assistant Secretary for Public and Indian Housing.

Date Granted: August 22, 2014.

Reason Waived: This regulation was waived due to the fire danger presented to this participant while alternate arrangements were made to provide meals.

Contact: Becky Primeaux, Director, Housing Voucher Management and Operations Division, Office of Public Housing and Voucher Programs, Office of Public and Indian Housing, Department of Housing and Urban Development, 451 Seventh Street SW., Room 4210, Washington, DC 20410, telephone (202) 708-0477.

• Regulation: 24 CFR 982.505(d).

Project/Activity: Berkeley Housing Authority (BHA), Berkeley, CA.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: July 17, 2014.

Reason Waived: The participant, who is a person with disabilities, required an exception payment standard to move to a more accessible unit. To provide this reasonable accommodation so the client could move to a new unit and pay no more than 40 percent of her adjusted income toward the family share, the BHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street, SW., Room 4216, Washington, DC 20410, telephone (202) 708-0477.

• Regulation: 24 CFR 982.505(d).

Project/Activity: Georgia Department of Community Affairs (GDCA), Atlanta, GA.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 7, 2014.

Reason Waived: The applicant, who is a person with disabilities, required an exception payment standard to remain in his current unit that met his needs. To provide this reasonable accommodation so that the client could remain in his unit and pay no more than 40 percent of his adjusted income toward the family share, the GDCA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 7, 2014.

Reason Waived: Five homeless veterans, who are persons with disabilities, required an exception payment standard to move to units that met their needs. To provide this reasonable accommodation so that these clients could move to their units and pay no more than 40 percent of their adjusted income toward the family share, the SFHA was allowed to approve exception payment standards that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Baltimore County Housing Office (BCHO), Towson, MD.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 22, 2014.

Reason Waived: The participant, who is a person with disabilities, required an exception payment standard to remain in her unit. To provide this reasonable accommodation so the family could remain in its unit and pay no more than 40 percent of its adjusted income toward the family share, the BCHO was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Willimantic Housing Authority (WHA), Willimantic, CT.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 22, 2014.

Reason Waived: The participant, whose daughter is a person with disabilities, required an exception payment standard to move to a unit that is wheelchair accessible. To provide this reasonable accommodation so that the client could move to a new unit and pay no more than 40 percent of her adjusted income toward the family share, the WHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Arvada Housing Authority (AHA), Arvada, CO.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 29, 2014.

Reason Waived: The participant, who is a person with disabilities, required an exception payment standard to move to a new unit. To provide this reasonable accommodation so the family could move to a new unit and pay no more than 40 percent of its adjusted income toward the family share, the AHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: South Metro Housing Options (SMHO), Littleton, CO.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: August 29, 2014.

Reason Waived: The participant, who is a person with disabilities, required an exception payment standard to move to a new unit. To provide this reasonable accommodation so the family could move to a new unit and pay no more than 40 percent of its adjusted income toward the family share, the SMHO was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Brookline Housing Authority (BHA), Brookline, MA.

Nature of Requirement: 24 CFR 982.505(d) states that a public housing agency may only approve a higher payment standard for a family as a reasonable accommodation if the higher payment standard is within the basic range of 90 to 110 percent of the fair market rent (FMR) for the unit size.

Granted By: Jemine A. Bryon, Acting Assistant Secretary for Public and Indian Housing.

Date Granted: September 18, 2014.

Reason Waived: The participant, who is a person with disabilities, required an exception payment standard to move to a new unit. To provide this reasonable accommodation so the family could move to a new unit and pay no more than 40 percent of its adjusted income toward the family share, the BHA was allowed to approve an exception payment standard that exceeded the basic range of 90 to 110 percent of the FMR.

Contact: Becky Primeaux, Director, Housing Voucher Management and Operations Division, Office of Public Housing and Voucher Programs, Office of Public and Indian Housing, Department of Housing and Urban Development, 451 Seventh Street SW., Room 4216, Washington, DC 20410, telephone (202) 708-0477.

• Regulation: 24 CFR 983.51 and 983.151.

Project/Activity: Housing Authority of Maricopa County (HAMC), Peoria, AZ.

Nature of Requirement: The first regulation details the procedures for selecting owner proposals; the second regulation addresses the requirements for rehabilitated and newly constructed units.

Granted By: Jemine A. Bryon, Acting Assistant Secretary for Public and Indian Housing.

Date Granted: August 7, 2014.

Reason Waived: These regulations were waived in order to facilitate the resolution and transfer of voucher units related to Apache Trails.

Contact: Becky Primeaux, Director, Housing Voucher Management and Operations Division, Office of Public Housing and Voucher Programs, Office of Public and Indian Housing, Department of Housing and Urban Development, 451 Seventh Street SW., Room 4210, Washington, DC 20410, telephone (202) 708-0477.

[FR Doc. 2014-30070 Filed 12-22-14; 8:45 am]

BILLING CODE 4210-67-P